DEPARTMENT OF THE INTERIOR

National Park Service

[NPS-WASO-NAGPRA- NPS0027603; PPWOCRADN0-PCU00RP14.R50000]

Notice of Intent To Repatriate Cultural Items: University of Georgia, Laboratory of Archaeology, Athens, GA

AGENCY: National Park Service, Interior.

ACTION: Notice.

SUMMARY: The University of Georgia, Laboratory of Archaeology in consultation with the appropriate Indian Tribes or Native Hawaiian organizations, has determined that the cultural items listed in this notice meet the definition of unassociated funerary objects. Lineal descendants or representatives of any Indian Tribe or Native Hawaiian organization not identified in this notice that wish to claim these cultural items should submit a written request to the University of Georgia, Laboratory of Archaeology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Georgia, Laboratory of Archaeology at the address in this notice by May 24, 2019.

ADDRESSES: Amanda Roberts Thompson, University of Georgia, Laboratory of Archaeology, 1125 Whitehall Road, Athens, GA 30605, telephone (706) 542-8737, email arobthom@uga.edu.

SUPPLEMENTARY INFORMATION: Notice is here given in accordance with the Native American Graves Protection and Repatriation Act (NAGPRA), 25 U.S.C. 3005, of the intent to repatriate cultural items under the control of the University of Georgia, Laboratory of Archaeology, Athens, GA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 2014, two Lamar incised rims were recovered from the bottom of excavations at a rock pile at site 9GE2085, at Reynolds Plantation in Greene County, GA. Brockington and Associates, Inc. also conducted phosphate testing on soil samples from the rock pile, as well as from areas around the site. The phosphate analysis revealed higher levels of phosphate in the rock pile, suggesting that the rock pile was utilized as a place of burial. No human remains were recovered from 9GE2085 but 2 Lamar incised rims (401-E.4:2-401-E.4:3) were recovered from an area known to have been utilized as a place of burial. The two unassociated funerary objects are two Lamar incised rims.

The geographical location of the burial within the historically documented territory of The Muscogee (Creek) Nation supports a cultural affiliation with The Muscogee (Creek) Nation.

Determinations Made by the University of Georgia, Laboratory of Archaeology

Officials of the University of Georgia, Laboratory of Archaeology have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Muscogee (Creek) Nation.

Additional Requestors and Disposition

Lineal descendants or representatives of any Indian Tribe or Native Hawaiian organization not identified in this notice that wish to claim these cultural items should submit a written request with information in support of the claim to Amanda Roberts Thompson, University of Georgia, Laboratory of Archaeology, 1125 Whitehall Road, Athens, GA 30605, telephone (706) 542-8737, email arobthom@uga.edu, by May 24, 2019. After that date, if no additional claimants have come forward, transfer of control of the unassociated funerary objects to The Muscogee (Creek) Nation may proceed.

The University of Georgia, Laboratory of Archaeology is responsible for notifying The Muscogee (Creek) Nation that this notice has been published.

Dated: April 2, 2019.
Melanie O'Brien,
Manager, National NAGPRA Program.

[FR Doc. 2019-08231 Filed 4-23-19; 8:45 am]

BILLING CODE 4312-52-P